DEPARTMENT OF HEALTH AND HUMAN SERVICES

[Document Identifier: OS-0955-0018]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 4, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0955-0018-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: 21st Century Cures Act: Interoperability, Information Blocking, and the ONC Health IT Certification Program.

Type of Collection: Reinstatement without change.

OMB No: 0955-0018.

Abstract: The Department of Health and Human Services, Office of the Secretary, Office of the National Coordinator for Health IT Office of Policy, is requesting an approval by OMB for reinstatement without change which pertains to a records and information retention requirement found at 45 CFR 170.402(b)(1). The purpose and use of this records and information retention requirement is to verify, as necessary, health IT developer compliance with the ONC Health IT Certification Program (Program) requirements, including certification criteria and Conditions and Maintenance of Certification. Specifically, a health IT developer must, for a period of 10 years beginning from the date each of a developer's health IT is first certified under the Program, retain all records and information necessary that demonstrate initial and ongoing compliance with the requirements of the Program.

Estimated Annualized Burden Table
Respondents (if necessary) | Number of respondents | Number of responses per respondents | Average burden per response | Total burden hours
Health IT Developers | 435 | 1 | 104 | 45,240
Total | 435 |  |  | 45,240

Sherrette A. Funn,
Paperwork Reduction Act Reports Clearance Officer, Office of the Secretary.

[FR Doc. 2024-04613 Filed 3-4-24; 8:45 am]

BILLING CODE 4150-45-P